DEPARTMENT OF THE INTERIOR

National Park Service

National Register of Historic Places; Notification of Pending Nominations and Related Actions

Nominations for the following properties being considered for listing or related actions in the National Register were received by the National Park Service before November 3, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by December 4, 2007.

J. Paul Loether,
Chief, National Register of Historic Places/National Historic Landmarks Program.

COLORADO

Kiowa County

American Legion Hall, (New Deal Resources on Colorado's Eastern Plains MPS) CO 287, N of Eads, Eads, 07001248

Kit Carson County

Burlington Gymnasium, (New Deal Resources on Colorado's Eastern Plains MPS) 450 11th St., Burlington, 07001249

CONNECTICUT

Fairfield County

Vought—Sikorsky Aircraft Plant, 550 Main St., Stratford, 07001245

Middlesex County

Camp Bethel, 124 Camp Bethel Rd., Haddam, 07001246

Windham County

Union Society of Phoenixville House, 4 Hartford Turnpike, Eastford, 07001247

KANSAS

Douglas County

East Lawrence Industrial Historic District, 619 E. 8th St., 804-846 Pennsylvania St., and 716 E 9th St., Lawrence, 07001250

KENTUCKY

Campbell County

Walter House, (German Settlement, Four Mile Creek Area TR) Gunkel Rd.,Melbourne, 07001254

Clark County

South Park Neighborhood, Roughly bounded E. Hickman St., Chaplin Ave., French Ave., and S. Main St., Winchester, 07001253

Jefferson County

Von Allmen Dairy Farm House, 5050 Norton Healthcare Blvd., Louisville, 07001251

Kenton County

Park Hills Historic District, Roughly part of Park Hills, NW of Dixie Hwy, except those facing Dixie Hwy., Park Hills, 07001252

NEW HAMPSHIRE

Cheshire County

Derbt Shop—Goodnow Pail Factory—Holman & Merriman Machine Shop—L. A. Carpenter Machine Shop—Streeter Shop, 63 Canal St., Hinsdale, 07001260

NEW YORK

Erie County

Miller, C.W., Livery Stable, 75 W. Huron St., Buffalo, 07001259

Livingston County

Caledonia Library, 3108 W. Main St., Caledonia, 07001256

Rockland County

Poor, Henry Varnum, House, S. Mountain Rd., New City, 07001258

Seneca County

Webster, James Russell, House, 115 E. Main St., Waterloo, 07001255

Wayne County

Dipper Dredge No. 3, 1665 Drydock Rd., Lyons, 07001257

OKLAHOMA

Caddo County

First Baptist Church (Colored), Jct. of E. Washington Ave. and NE Fifth St., Anadarko, 07001263

Carter County

Choctaw, Oklahoma and Gulf Railroad Viaduct, Jct. of G St. NE and abandoned roadbed of the St. Louis-San Francisco Railroad, Ardmore, 07001266

Garfield County

Enid Downtown Historic District, Roughly bounded by Maple Ave., 2nd St., Cherokee Ave., and Adams St., Enid, 07001265

Harmon County

Gould Community Building, Kennedy St., Gould, 07001264

Hollis City Hall and Jail, 101 W. Jones St., Hollis, 07001267

Payne County

Berry, Luke D., House, 621 E. Broadway St., Cushing, 07001262

Tulsa County

Ranch Acres Historic District, Roughly bounded by E. 31 St., S. Harvard Ave, E. 41st St., and S Delaware and S Florence Aves., Tulsa, 07001268

OREGON

Multnomah County

Pearson Mortuary, 301 NE Knott St., Portland, 07001261

RHODE ISLAND

Newport County

Murphy, Dennis J., House at Ogden Farm, 641 Mitchell's Ln., Middletown, 07001269

TENNESSEE

Putnam County

West End Church of Christ Silver Point, 14360 Center Hill Dam Rd., Silver Point, 07001270

Shelby County

Southern Railway Industrial Historic District (Boundary Increase) 711 Linden Ave., Memphis, 07001273

WISCONSIN

Dane County

Steinle Turret Machine Company, 149 Waubesa St., Madison, 07001272

Dodge County

Zirbel—Hildebrandt Farmstead, W1328-1330 WI 33, Herman, 07001271

[FR Doc. E7-22528 Filed 11-16-07; 8:45 am]

BILLING CODE 4310-70-P